DEPARTMENT OF THE INTERIOR

Fish and Wildlife Service

[FWS-R8-ES-2015-N138; FXES11130000-156-FF08E00000]

Endangered and Threatened Wildlife and Plants; Recovery Plans for the Pallid Manzanita and the Baker's Larkspur

AGENCY: Fish and Wildlife Service, Interior.

ACTION: Notice of availability of documents.

SUMMARY: We, the U.S. Fish and Wildlife Service, announce the availability of final recovery plans for two plants, the pallid manzanita and the Baker's larkspur. The recovery plan for pallid manzanita includes recovery objectives and criteria, and specific actions necessary to achieve removal of the species from the Federal Lists of Endangered and Threatened Wildlife and Plants. The recovery plan for Baker's larkspur includes downlisting objectives and criteria, and specific actions necessary to reclassify the species from endangered to threatened on the Federal Lists of Endangered and Threatened Wildlife and Plants.

ADDRESSES: You may obtain copies of the recovery plans from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

The purpose of a recovery plan is to provide a framework for the recovery of species so that protection under the Act is no longer necessary. A recovery plan includes scientific information about the species and provides criteria that enable us to gauge whether downlisting or delisting the species may be warranted. Furthermore, recovery plans help guide our recovery efforts by describing actions we consider necessary for each species' conservation and by estimating time and costs for implementing needed recovery measures.

Section 4(f) of the Act requires us to provide an opportunity for public review and comment prior to finalization of recovery plans, including revisions to such plans. We made the draft recovery plan for pallid manzanita available for public comment from March 3, 2014, through June 2, 2014 (79 FR 11816). We made the draft recovery plan for Baker's larkspur available for public comment from January 13, 2015, through March 16, 2015 (80 FR 1659). We did not receive comments during the public comment periods for either of the draft recovery plans.

Recovery Plan for Pallid Manzanita (Arctostaphylos pallida)

Species' History

We listed pallid manzanita throughout its entire range on April 22, 1998 (63 FR 19842). The species is endemic to the San Francisco East Bay, and currently consists of two naturally occurring populations and an out-planted population, totaling 1,353 mature plants. Pallid manzanita requires frequent summertime fog, and, as a component of the maritime chaparral vegetation type, it occurs on relatively cool, moist, and stable sites in close proximity to the San Francisco Bay. It is highly shade intolerant and adapted to a particular fire regime. The species requires fire for natural seed germination; however, too frequent a fire regime, one that depletes the soil seed bank before enough seeds have become deeply buried enough in the soil to withstand fire, represents a significant threat to the species. Approximately one-third of all plants occur within the backyards of homeowners, and almost all individuals occur in close proximity to human-built structures. These plants represent an extreme wildfire hazard to human-built structures, and have been targeted for removal to reduce the threat of wildfire. Finally, an incurable and virulent nonnative pathogen, Phytophthora cinnamomi, has been identified as killing pallid manzanita plants at two locations.

Recovery Plan Goals

The ultimate goal of this recovery plan is to recover pallid manzanita so that it can be delisted. To meet the recovery goal, the following objectives have been identified:

1. Minimize the spread of Phytophthora cinnamomi.

2. Treat stands infected with Phytophthora cinnamomi.

3. Manage native and nonnative vegetation that shades pallid manzanita.

4. Expand existing stands.

5. Establish additional stands.

6. Ensure stands are protected from incompatible uses and incompatible wildfire fuels-reduction activities.

As pallid manzanita meets reclassification and recovery criteria, we will review its status and consider it for removal from the Federal Lists of Endangered and Threatened Wildlife and Plants.

Recovery Plan for Baker's Larkspur (Delphinium bakeri)

Species' History

We listed Baker's larkspur throughout its entire range on January 26, 2000 (65 FR 4156). The species is endemic to Marin and Sonoma Counties, California, and is currently known from one small historical occurrence along Marshall-Petaluma Road in west Marin County. The remaining historical occurrence of Baker's larkspur occurs on decomposed shale in the mixed woodland plant community at an elevation range of 295 feet (ft) (90 meter (m)) to 672 ft (205 m) in moderately moist, shaded conditions on a shallow veneer of soil along an extensive north-facing slope. These habitat requirements limit the availability of suitable reintroduction sites with appropriate habitat conditions and compatible land use. Although habitat conversion and road maintenance were historically responsible for decreasing numbers, those threats have been curtailed. Because of the extreme range restriction of this already-narrow endemic, and its small population size, the plant is highly vulnerable to extinction from random events, including wildfire, herbivory, disease and pest outbreaks, and human disturbance.

Recovery Plan Goals

The goal of this recovery plan is to improve the status of Baker's larkspur so that it can be downlisted. Due to the current lack of information about the species' biology and habitat requirements, the magnitude of current threats, and the precarious environment where the single historical population of the species persists, we are unable to determine appropriate delisting criteria; therefore, we focus on meeting the goal of downlisting. To meet the recovery goal of downlisting, the following objectives have been identified:

1. Expand the existing populations of Baker's larkspur and establish additional self-sustaining populations of Baker's larkspur throughout its known ecological and geographical range, while preserving extant genetic diversity.

2. Ensure existing and future populations are protected from incompatible uses, such as road maintenance.

3. Reduce herbivory by slugs, snails, and gophers to the point that it does not affect the species at a population level.

As Baker's larkspur meets reclassification criteria, we will review its status and consider it for downlisting on the Federal Lists of Endangered and Threatened Wildlife and Plants.

Authority

We developed our recovery plan under the authority of section 4(f) of the Act, 16 U.S.C. 1533(f). We publish this notice under section 4(f) of the Endangered Species Act of 1973, as amended (16 U.S.C. 1531 et seq.).

Polly Wheeler,
Acting Regional Director, Pacific Southwest Region.

[FR Doc. 2015-20846 Filed 8-21-15; 8:45 am]

BILLING CODE 4310-55-P